MERIT SYSTEMS PROTECTION BOARD

Request for Information: Attorneys Interested in Representing Appellate Clients Pro Bono

AGENCY: Merit Systems Protection Board.

ACTION: Notice.

SUMMARY: The Merit Systems Protection Board (MSPB or the Board) invites all attorneys interested in providing pro bono representation to pro se appellants in their appeals of Board decisions to the U.S. Court of Appeals for the Federal Circuit to submit their names and contact information to MSPB.

DATES: Responses received by July 14, 2014 will be posted at http://www.mspb.gov/probono. However, requests to be added to or removed from the list on our Web site will be accepted on an ongoing basis.

ADDRESSES: Interested law firms and individual attorneys should submit the following information on company or professional letterhead: the names of participating attorneys, their mailing address, telephone and fax numbers, and email addresses. This information should be sent by mail to William D. Spencer, Clerk of the Board, 1615 M Street NW., Washington, DC 20419; by email to mspb@mspb.gov; or by fax to (202) 653-7130.

FOR FURTHER INFORMATION CONTACT: William D. Spencer, Clerk of the Board, Merit Systems Protection Board, 1615 M Street NW., Washington, DC 20419; phone: (202) 653-7200; fax: (202) 653-7130; or email: mspb@mspb.gov.

SUPPLEMENTARY INFORMATION: The MSPB will maintain a list of interested attorneys on our Web site at http://www.mspb.gov/probono and provide notice of the possibility for pro bono representation before the U.S. Court of Appeals for the Federal Circuit in the appeal rights section of MSPB decisions. The MSPB neither endorses the services provided by any attorney nor warrants that any attorney will accept representation in a given case. It will be the decision of the individual appellant to contact interested attorneys about pro bono representation, and, if contacted, it will be the decision of that attorney whether to provide pro bono representation. Law firms or individual attorneys may end their participation and have their contact information removed from our Web site at any time by contacting the Office of the Clerk of the Board in writing.

William D. Spencer,
Clerk of the Board.

[FR Doc. 2014-13860 Filed 6-12-14; 8:45 am]

BILLING CODE 7400-01-P